DEPARTMENT OF STATE

[Public Notice 8016]

In the Matter of the Designation of The Communist Party of Nepal (Maoist) Also Known as United Revolutionary People's Council Also Known as People's Liberation Army of Nepal Also Known as CPN(M) Pursuant to Section 212(a)(3)(B)(vi)(II) of the Immigration and Nationality Act (INA), as Amended

Acting under the authority of Section 212(a)(3)(B)(vi)(II) of the INA, I hereby revoke the designation of the Communist Party of Nepal (Maoist), also known as United Revolutionary People's Council, also known as People's Liberation Army of Nepal, also known as CPN(M), as a “terrorist organization” under Section 212(a)(3)(B)(vi)(II) of the INA.

This notice shall be published in the Federal Register.

Dated: August 28, 2012.
Wendy R. Sherman,
Under Secretary of State for Political Affairs.

[FR Doc. 2012-21975 Filed 9-5-12; 8:45 am]

BILLING CODE 4710-10-P